GENERAL SERVICES ADMINISTRATION

Privacy Act of 1974; System of Records

AGENCY: General Services Administration.

ACTION: Notice of a new system of records subject to the Privacy Act of 1974.

SUMMARY: The General Services Administration (GSA) is providing notice of the establishment of a new record system, Transportation Benefits Records (GSA/Transit-1). The new system will collect information from employees applying for transportation benefits to be used on public transportation and vanpools to and from the workplace. System information will be used to determine employee eligibility for transit subsidies and to disburse monetary and non-monetary benefits to eligible employees. The new system implements measures that reduce traffic congestion and air pollution and expand commuting alternatives for employees.

DATES: Comments on the new system must be provided by September 27, 2000. The new system will become effective without further notice on September 27, 2000, unless comments dictate otherwise.

ADDRESSES: Address comments to: John Hughes, General Services Administration, BEAP, 1800 F Street, NW, Washington, DC 20405; or to GSA Privacy Act Officer, General Services Administration, CAI, 1800 F Street, NW, Washington, DC 20405.

FOR FURTHER INFORMATION CONTACT: John Hughes at the above address, or telephone (202) 501-2162.

GSA/Transit-1

System name:

Transportation Benefits Records.

System location:

System records are maintained by the Office of Management Services, 1800 F St. NW, Washington, DC 20405; by the GSA Finance Center in the Heartland Region, Kansas City, MO; and by each of GSA's regional offices.

Categories of individuals covered by the system:

Employees applying for transit subsidies for use of public transportation and vanpools to and from the workplace.

Categories of records in the system:

Record categories may include name, home address, Social Security Number, work organization and location, mode of transportation, and commuting costs.

Authority for maintenance of the system:

Pub. L. 101-509; E.O. 13150; 26 USC 132(f); 5 USC 5701-5733; and Federal Employees Clean Air Incentives Act (section 2(a) of Pub. L. 103-172, found at 5 USC 7905.

Purpose:

To establish and maintain systems for providing monetary and non-monetary transportation fringe benefits to employees who use mass transportation and vanpools to commute to and from work.

Routine uses of records maintained in the system, including categories of users and the purpose of such uses:

System information is used to determine the eligibility of applicants for transportation benefits and to disburse benefits to eligible employees through the Department of the Treasury. The information also may be disclosed as a routine use to:

a. The Federal, State, or local agency responsible for investigating, prosecuting, enforcing, or implementing a statute, rule, regulation, or order, where the General Services Administration becomes aware of a violation or potential violation of civil or criminal law or regulation.

b. A Member of Congress or to a congressional staff member in response to a request for assistance by the subject of record.

c. Another Federal agency or to a court when the Government is party to a judicial proceeding before the court.

d. The Office of Personnel Management or the General Accounting Office when the information is required for evaluation of the subsidy program.

e. An expert, consultant, or contractor of GSA in the performance of a Federal duty to which the information is relevant.

Policies and practices for storing, retrieving, accessing, retaining, and disposing of records in the system:

Storage:

System records are stored electronically and on paper.

Retrievability:

Records may be retrieved by name, mode of transportation, Social Security Number, or other identifier in the system.

Safeguards:

Records are safeguarded in accordance with the Privacy Act and the Computer Security Act. Technical, administrative, and personnel security measures ensure confidentiality and integrity of system data. Access is limited to authorized individuals.

Retention and disposal:

Applications will be maintained for as long as the applicant is an eligible participant in the subsidy program. System records are retained and disposed of according to GSA records maintenance and disposition schedules and the requirements of the National Archives and Records Administration (NARA).

System manager(s) and address:

John Hughes, General Services Administration (BEAP), 1800 F Street, NW, Washington, DC 20405.

Notification procedures:

Inquiries should be directed to the system manager at the above address.

Record access procedures:

Requests for access to records should be directed to the system manager. GSA rules for accessing records under the Privacy Act are provided in 41 CFR part 105-64.

Record contesting procedures:

Requests to correct records should be directed to the system manager. GSA rules for contesting record contents and for appealing determinations are provided in 41 CFR part 105-64.

Record source categories:

Sources for information in the system are: employees submitting applications for parking permits, vanpool membership, ridesharing information, and transit subsidies; and other Federal agencies participating in the program.

Dated: August 21, 2000.
Daniel K. Cooper,
Director, Information Management Division.

[FR Doc. 00-21854 Filed 8-25-00; 8:45 am]

BILLING CODE 6820-34-M